SMALL BUSINESS ADMINISTRATION

Region IV Georgia District Advisory Council; Public Meeting

The U. S. Small Business Administration, Region IV Georgia District Advisory Council, will hold a public meeting on Friday, April 20, 2001, at 9 a.m., at the Sheraton Hotel, 5351 Simons Boulevard, Columbus, Georgia 31904; to discuss such matters as may be presented by members, staff of the U. S. Small Business Administration, or others present. For further information, write or call Mr. Charles E. Anderson, District Director, U.S. Small Business Administration, 233 Peachtree Street, NE., Suite 1900, Atlanta, Georgia 30303; (404) 331-0266.

Nancyellen Gentile,
Committee Management Officer.

[FR Doc. 01-6596 Filed 3-15-01; 8:45 am]

BILLING CODE 8025-01-U